DEPARTMENT OF VETERANS AFFAIRS

[OMB Control No. 2900-0178]

Agency Information Collection Activity Under OMB Review: Monthly Certification of On-the-Job and Apprenticeship Training

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0178.

FOR FURTHER INFORMATION CONTACT: Maribel Aponte, Office of Enterprise and Integration, Data Governance Analytics (008), 1717 H Street NW, Washington, DC 20006, (202) 266-4688 or email maribel.aponte@va.gov. Please refer to “OMB Control No. 2900-0178” in any correspondence.

SUPPLEMENTARY INFORMATION:

Authority: Public Law 115-89 “Veterans Apprenticeship and Labor Opportunity Reform Act”, 38 U.S.C. 3002(3)(C), 3032(c), 3233, 3313(g), 3484, 3534(a), 3680(c), 3687, and 10 U.S.C. 16131., 38 CFR 21.3131(a), 21.3132(c), 21.4135(e)(3)(iii), 21.4203(f)(3), 21.4262, 21.5130, 21.5138, 21.7139(g), and 21.7639(f), 21.9561(c), 21.9641(g).

Title: Monthly Certification of On-the-Job and Apprenticeship Training.

OMB Control Number: 2900-0178.

Type of Review: Revision of a currently approved collection.

Abstract: Benefits are authorized monthly based on the number of hours worked by the trainee as verified by the training establishment. Unscheduled terminations result in the termination of benefits. If hours are reduced to less than a full-time work schedule, a reduction of benefits will occur. Public Law 115-89 “Veterans Apprenticeship and Labor Opportunity Reform Act” (VALOR Act) was signed into law on November 21, 2017. Section 3 of this law amended 38 U.S.C. 3680(c) to eliminate the trainee's certification requirement. As a result, this form is only completed, signed, and certified by the training establishment to report the trainee's number of hours worked and/or to report the trainee's date of termination. The form no longer requires the signature of the trainee. The form is then sent to the Regional Processing Office (RPO) for processing.

An agency may not conduct or sponsor, and a person is not required to respond to a collection of information unless it displays a currently valid OMB control number. The Federal Register Notice with a 60-day comment period soliciting comments on this collection of information was published at 86 FR 47539 on August 25, 2021, page 47539.

Affected Public: Individuals or Households.

Estimated Annual Burden: 214,794 hours.

Estimated Average Burden per Respondent: 10 minutes.

Frequency of Response: Twelve (12) Annually per Respondent.

Estimated Number of Respondents: 107,397.

By direction of the Secretary.
Maribel Aponte,
VA PRA Clearance Officer, Office of Enterprise and Integration, Data Governance Analytics, Department of Veterans Affairs.

[FR Doc. 2021-23985 Filed 11-2-21; 8:45 am]

BILLING CODE 8320-01-P